DEPARTMENT OF COMMERCE

International Trade Administration

A-570-506

Porcelain-on-Steel Cooking Ware from the People's Republic of China: Rescission of Antidumping Duty New Shipper Review

AGENCY: Import Administration, International Trade Administration, Department of Commerce.

SUMMARY: In response to a request from Shanghai Watex Metal Products, Co., Ltd., the Department of Commerce initiated a new shipper review of the antidumping duty order on porcelain-on-steel cooking ware from the People's Republic of China. The period of review is December 1, 2003, through May 31, 2004. For the reasons discussed below, this new shipper review is being rescinded.

EFFECTIVE DATE: January 11, 2005.

FOR FURTHER INFORMATION CONTACT: Anya Naschak or Benjamin Kong, AD/CVD Operations, Office 9, Import Administration, International Trade Administration, U.S. Department of Commerce, 14th Street and Constitution Avenue, NW, Washington, DC, 20230; telephone: (202) 482-6375 and (202) 482-7907, respectively.

SUPPLEMENTARY INFORMATION:

Background

On September 16, 2004, the Department of Commerce (“the Department”) initiated a new shipper review of Shanghai Watex Metal Products, Co., Ltd. (“Watex”) under the antidumping duty order on porcelain-on-steel cooking ware (“POS”) for the period December 1, 2003, through May 31, 2004. See Certain Porcelain-On-Steel Cookware from the People's Republic of China: Initiation of New Shipper Antidumping Duty Review, 69 FR 55795 (September 16, 2004) (“Initiation Notice”). The Department's initiation of a new shipper review of Watex was based on, among other things, Watex's certification that it was both the exporter and producer of the subject merchandise for which it requested new shipper review. See 19 CFR 351.214(b)(i) and Initiation Notice. Relying on the certification provided by Watex, the Department issued instructions to US. Customs and Border Protection (“CBP”) in accordance with section 751(a)(2)(B) of the Tariff Act of 1930, as amended (“the Act”), which allowed, at the option of the importer, the posting, until completion of the review, of a bond or security in lieu of a cash deposit for each entry of the subject merchandise for which Watex was both the producer and exporter.

On October 25, 2004, Watex submitted its Section A, C and D Questionnaire¹ response (“Response”) to the Department. In this response, Watex reported for the first time that another company, Shanghai Ping An Enamel Products Co. (“Ping An”), actually produced the subject merchandise that Watex exported to the United States. See Response, at page A-2.

¹ Section A of the questionnaire requests general information concerning a company's corporate structure and business practices, the merchandise under this investigation that it sells, and the manner in which it sells that merchandise in all of its markets. Section B requests a complete listing of all home market sales, or, if the home market is not viable, of sales in the most appropriate third-country market (this section is not applicable to respondents in non-market economy (NME) cases). Section C requests a complete listing of U.S. sales. Section D requests information on the factors of production of the merchandise under investigation. Section E requests information on further manufacturing.

On November 12, 2004, Columbian Home Products, LLC (“Petitioner”) submitted a letter to the Department requesting that the Department rescind the new shipper review of Watex because Watex failed to provide the proper certification as required by 19 CFR 251.214(b)(2). Petitioner based its rescission request on Watex's incorrect statement in its initial request that it was both the exporter and producer of the subject merchandise and its failure to provide certifications from Ping An in its initial request for a new shipper review. On November 24, 2004, Watex submitted its response to Petitioner's November 12, 2004, request. Watex claimed that it unintentionally omitted the certification from Ping An in its request for review. Watex further stated that the delayed certification neither materially impacted nor prejudiced any party in the review. On November 29, 2004, Petitioner responded to Watex's November 24, 2004, comments, noting that the essential question is not whether the delayed certification had a material impact or prejudiced any party to this case, but rather whether the regulatory requirements for initiating the new shipper review were met, and in this case they were not.

On December 6, 2004, the Department notified parties of its intent to rescind the review with respect to Watex because Watex failed to provide in its new shipper review request the necessary certification from the producer or supplier of the subject merchandise. The Department also determined that Watex provided misleading statements in its request for new shipper review and in its certification suggesting it was both the producer and exporter when it in fact was not. Based on these findings, the Department determined that it did not have a sufficient basis to initiate the new shipper review of Watex. See “Memorandum to the File: Antidumping New-Shipper Review of Certain Porcelain-on-Steel Cookware from the People's Republic of China: Notification of Intent to Rescind,” dated December 6, 2004 (“Intent to Rescind”). The Department requested comments from interested parties on this issue no later than December 10, 2004. No parties filed any comments in response to the Department's Intent to Rescind of December 6, 2004.

Scope of the Order

Imports covered by this order are shipments of POS, including teakettles, which do not have self-contained electric heating elements. All of the foregoing are constructed of steel and are enameled or glazed with vitreous glasses. The merchandise is currently classifiable under the Harmonized Tariff Schedule (“HTS”) item number 7323.94.00. The HTS item number is provided for convenience and customs purposes; the written description of the scope remains dispositive.

Rescission of Review

The Department is rescinding the new shipper review with respect to Watex. As noted above, Watex did not provide the proper certification, pursuant to 19 CFR 351.214(b)(2)(ii)(B), to meet the minimum requirements for entitlement to a new shipper review. In order to meet the minimum requirements for entitlement to a new shipper review, a company that is the exporter but not the producer of the subject merchandise for which it requests review must provide, among other things, (1) a certification that it did not export subject merchandise to the United States during the POI and (2) a certification from the person or company which produced or supplied the subject merchandise that the producer or supplier did not export the subject merchandise to the United States during the POI. See 19 CFR 351.214(2)(ii)(A) and (B).

Watex did not provide a certification in accordance with 19 CFR 351.214(b)(2)(ii)(B), in its initial request, from the producer of subject merchandise that Watex sold or exported to the United States during the POR. Specifically, Watex was required to provide in its review request a certification from Ping An because Ping An produced the merchandise subject to this review, as confirmed by information contained in Watex's Response. Therefore, Watex did not meet the minimum certification requirements for initiation of a new shipper review. A certification from the producer is fundamental to the Department's initiation decision. Since Watex did not provide the certification, the Department has determined that Watex failed to provide all necessary certifications required to initiate and conduct a new shipper review. For these reasons and in accordance with our precedent, the Department is rescinding the new shipper review of the antidumping duty order on POS from the People's Republic of China (“PRC”) with respect to Watex pursuant to 19 CFR 351.214(b)(2). See, e.g., Certain Preserved Mushrooms from the People's Republic of China: Intent to Rescind Antidumping Duty New Shipper Review, 68 FR 45792 (August 4, 2003); Fresh Garlic from the People's Republic of China: Partial Rescission of Antidumping Duty New Shipper Review, 67 FR 65782 (October 28, 2002).

Cash Deposits

Bonding is no longer permitted to fulfill security requirements for shipments from Watex of POS from the PRC entered, or withdrawn from warehouse, for consumption in the United States on or after the publication of this notice of rescission of antidumping duty new shipper review in the Federal Register. Further, effective upon publication of this notice for all shipments of the subject merchandise exported by Watex and entered, or withdrawn from warehouse, for consumption, the cash-deposit rate will be the PRC-wide rate, which is 66.65 percent.

Notification to Interested Parties

This notice serves as a reminder to importers of their responsibility under 19 CFR 351.402(f) to file a certificate regarding the reimbursement of antidumping duties prior to liquidation of the relevant entries during this review period. Failure to comply with this requirement could result in the Secretary's presumption that reimbursement of antidumping duties occurred and subsequent assessment of double antidumping duties.This rescission notice is published in accordance with sections 751(a)(2)(B) and 777(i) of the Act and 19 CFR 351.214.

Dated: January 3, 2005.
James J. Jochum,
Assistant Secretary for Import Administration.

[FR Doc. E5-39 Filed 1-10-05; 8:45 am]

BILLING CODE 3510-DS-S